DEPARTMENT OF THE INTERIOR

National Park Service

[NPS-PWR-PWRO-17266;PX.P0169628B.00.1]

Notice of Intent To Prepare Environmental Impact Statement for Wilderness Stewardship Plan, Yosemite National Park, Madera, Mariposa, and Tuolumne, California

AGENCY: National Park Service, Interior.

ACTION: Notice of Intent.

SUMMARY: Yosemite National Park is initiating the conservation planning and environmental impact analysis process needed to inform consideration of alternative strategies for the future management of Yosemite Wilderness. The Yosemite Wilderness encompasses 704,638 acres that were designated by the California Wilderness Act of 1984 (an additional 927 acres were designated as potential wilderness additions). Through the preparation of the Wilderness Stewardship Plan/Environmental Impact Statement (WSP/EIS), Yosemite National Park (YOSE) proposes to update the park's current 1989 Wilderness Management Plan to achieve enhanced wilderness stewardship objectives, which include preserving wilderness character, providing appropriate types and levels of access for visitors and authorized users, protecting natural and cultural resources, and adhering to legally-mandated management and preservation requirements. YOSE intends to coordinate the steps of Section 106 of the National Historic Preservation Act with reviews under the NEPA process.

DATES: All written comments must be postmarked or transmitted not later than January 26, 2016.

ADDRESSES: Requests to be added to the WSP/EIS mailing list may be submitted to: Superintendent, Yosemite National Park, Attn: Wilderness Stewardship Plan, P.O. Box 577, Yosemite, CA 95389.

FOR FURTHER INFORMATION CONTACT: Please contact the Yosemite Planning and Compliance Office by telephone at (209) 379-1365 or by email at yose_planning@nps.gov.

SUPPLEMENTARY INFORMATION: Over 94% of Yosemite National Park is designated Wilderness. The Wilderness encompasses the upper watersheds of the Tuolumne and Merced Rivers, ranging in elevation from less than 3,000 feet to more than 13,000 feet. This large elevation range supports a wide diversity of plant and animal communities including threatened and endangered species. The Yosemite Wilderness is rich in cultural resources including tribal ancestral homelands and historic and archeological features. It is known for its granite peaks, alpine and subalpine lakes, and dramatic waterfalls. It is a popular Wilderness, with visitors enjoying over 100,000 use nights and approximately 400,000 to 500,000 use days. Visitors engage in activities such as backpacking, rockclimbing, stock trips, fishing, and dayhiking. The WSP/EIS will address a variety of issues including, but not limited to trails, minimum requirements analysis for administrative use and facilities, wilderness restoration, cultural resources management, potential wilderness additions, commercial use, visitor use and capacity, stock use and meadow management. The plan will provide detailed management direction consistent with the National Park Service's Management Policies (2006) and other agency guidelines regarding the preservation of wilderness character.

How To Comment: Public comments regarding the range of issues that should be addressed, alternative approaches to managing YOSE wilderness, and other concerns regarding YOSE Wilderness or the planning process may be submitted online through the Planning, Environment, and Public Comment (PEPC) Web site at http://parkplanning.nps.gov/yosewild (electronic comment submittal saves resources and allows for direct entry into the National Park Service's comment analysis system). You may also submit written comments mailing to the address noted above; written comments will also be accepted during public scoping meetings.

Before including your address, phone number, email address, or other personal identifying information in your comment, please be advised that your entire comment including your personal identifying information may be made publicly available at any time. While you can ask us in your comment to withhold your personal identifying information from public review, we cannot guarantee that we will be able to do so.

At this time several public scoping meetings are expected to be hosted during the Winter of 2015. Scoping materials including WSP planning process information and confirmed details regarding public meetings will be posted on the park planning Web site http://www.nps.gov/yose/parkmgmt/yosewild.htm and on the PEPC Web site (noted above). The status of the Draft WSP/EIS will be updated periodically at both Web sites listed above. To be added to the WSP/EIS mailing list, email your request to yose_planning@nps.gov or mail your request to the address noted above. Please note in your request if you would like to receive an electronic copy of the document (i.e., CD-ROM) or a printed copy of the Draft WSP/EIS when it is released (limited copies will be available). To reduce printing costs and conserve resources, the public is strongly encouraged to download materials from the Web site.

Decision Process: Following consideration of all comments obtained through this scoping effort, YOSE will prepare the Draft WSP/EIS. This document will state the purpose and need for federal action, describe and analyze a range of alternatives (including a “no action” baseline alternative), assess potential environmental consequences and provide appropriate impact mitigation strategies for each alternative, and identify the “agency-preferred” alternative. Public release of the Draft WSP/EIS will be formally announced by publication of a Notice of Availability in the Federal Register and via Web site postings and announcements in local and regional news media. Notifications will also be sent to the WSP/EIS mailing list and YOSE planning electronic mailing list, as well as to local, state, federal, and tribal organizations and groups.

Following careful analysis of all responses received concerning the Draft WSP/EIS, a Final WSP/EIS will be prepared and its availability similarly announced in the Federal Register. Thereafter, but not sooner than 30 days after release of the Final WSP/EIS, a Record of Decision will be prepared. As a delegated EIS, the official responsible for final approval of the WSP/EIS is the Regional Director, Pacific West Region. Subsequently the official responsible for implementation of the approved WSP is the Superintendent, Yosemite National Park.

Dated: November 12, 2015.
Martha J. Lee,
Acting Regional Director, Pacific West Region.

[FR Doc. 2015-30160 Filed 11-25-15; 8:45 am]

BILLING CODE 4312-FF-P